DEPARTMENT OF VETERANS AFFAIRS

[OMB Control No. 2900-0695]

Agency Information Collection (Application for Reimbursement of Licensing or Certification Test Fees): Activity Under OMB Review

AGENCY: Veterans Benefits Administration, Department of Veterans Affairs

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before January 28, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0695” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0695” in any correspondence.

SUPPLEMENTARY INFORMATION:

Title: Application for Reimbursement of Licensing or Certification Test Fees, (38 U.S.C. Chapters 30, 32, and 35; 10 U.S.C. Chapters 1606 & 1607), VA Form 22-0803.

OMB Control Number: 2900-0695.

Type of Review: Revision of a currently approved collection.

Abstract: Claimants complete VA Form 22-0803 to request reimbursement of licensing or certification fees paid.

An agency may not conduct or sponsor, and a person is not required to respond to a collection of information unless it displays a currently valid OMB control number. The Federal Register Notice with a 60-day comment period soliciting comments on this collection of information was published on October 2, 2014, at page 59558.

Affected Public: Individuals or households.

Estimated Annual Burden: 408 hours.

Frequency of Response: On occasion.

Estimated Average Burden per Respondents: 15 minutes.

Estimated Annual Responses: 1,631.

Dated: December 22, 2014.
By direction of the Secretary.
Crystal Rennie,
VA Clearance Officer, U.S. Department of Veterans Affairs.

[FR Doc. 2014-30359 Filed 12-24-14; 8:45 am]

BILLING CODE 8320-01-P